DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Coordinating Center To Support State Incentive Grants To Build Capacity for Alternatives to Restraint and Seclusion—New

The Substance Abuse and Mental Health Services Administration's (SAMHSA), Center for Mental Health Services has funded a Coordinating Center to Support State Incentive Grants to Build Capacity for Alternatives to Restraint and Seclusion. The grants are designed to promote the implementation and evaluation of best practice approaches to reducing the use of restraint and seclusion in mental health facilities. Grantees consist of 8 sites (state mental health agencies), most of which will be implementing interventions in multiple facilities (a total of 76 facilities). These include facilities serving adults and those serving children and/or adolescents, with various subgroups such as forensic and sexual offender populations.

With input from multiple experts in the field of restraint and seclusion and alternatives to restraint and seclusion, the project created a common core of data collection instruments that will be used for this cross-site project. The facilities will complete four different instruments: (1) Facility/Program Characteristics Inventory (information about type of facilities, characteristics of persons served, staffing patterns, and unit specific data); (2) Inventory of Seclusion and Restraint Reduction Interventions; (3) Treatment Episode Data (admission data for all clients/patients); and (4) Event Data (data about the use of restraint and seclusion). Data will be submitted by the sites electronically via a secured Web site. The Facility/Program Characteristic Inventory and Inventory of Seclusion and Restraint Reduction Intervention will be collected annually. The Treatment Episode Data and Event Data will be collected monthly.

The resulting data will help to identify the: (1) Number of programs adopting best practices involving alternative approaches to restraint and seclusion; and (2) program's impact of reducing restraint and seclusion use and adoption of alternative practices. The estimated annual response burden to collect this information is as follows:

Instrument | Number of respondents | Responses/ respondent | Burden/response (hours) | Annual burden (hours)
Facility/Program Characteristic Inventory | 76 | 1 | 4 | 304
Inventory Of Seclusion And Restraint Reduction Interventions | 76 | 1 | 2 | 152
Treatment Episode Data | 76 | 12 | 8 | 7,296
Event Data | 76 | 12 | 8 | 7,296
Total | 76 |  |  | 15,048

Send comments to Summer King, SAMHSA Reports Clearance Officer, Room 7-1044, 1 Choke Cherry Road, Rockville, MD 20850. Written comments should be received by May 24, 2005.

Dated: March 21, 2005.
Anna Marsh,
Executive Officer, SAMHSA.

[FR Doc. 05-5914 Filed 3-24-05; 8:45 am]

BILLING CODE 4162-20-P